NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before March 16, 2006. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means (Note the new address for requesting schedules using e-mail): Mail: NARA (NWML), 8601 Adelphi Road, College Park, MD 20740-6001. E-mail: requestschedule@nara.gov. FAX: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending (Note the New Address for Requesting Schedules Using E-Mail)

1. Department of the Air Force, Agency-wide (N1-AFU-05-4, 1 item, 1 temporary item). Environmental monitoring records and other documentation relating to exposure of employees to hazardous substances. This schedule revises the retention period for records previously approved for disposal.

2. Department of Health and Human Services, Food and Drug Administration (N1-88-05-1, 24 items, 21 temporary items). Internal advisory committee working group records, ombudsman case files and related finding aid, science forum conference materials and online abstracts, administrative materials and ad hoc reports relating to rare disease drugs, correspondence relating to the registration and financial review of regulated industries, and records relating to product recalls, including an electronic information system used to track recall activities. Also included are electronic copies of records created using electronic mail and word processing. Proposed for permanent retention are recordkeeping copies of textual records documenting government assistance for rare disease drug development. Also proposed for permanent retention are data files and system documentation associated with an electronic information system used to track those records. This schedule authorizes the agency to apply the proposed disposition instructions to any recordkeeping medium.

3. Department of Homeland Security, U.S. Coast Guard (N1-26-05-10, 11 items, 11 temporary items). Inputs, outputs, master files, documentation, and electronic mail and word processing copies associated with an electronic information system used to manage and report on the operations, personnel, and equipment resources of the U.S. Coast Guard Auxiliary's flotillas, detachments, and divisions.

4. Department of Justice, Federal Bureau of Investigation (N1-65-05-3, 1 item, 1 temporary item). This schedule consolidates 19 data files in the National Crime Information Center into one item. This schedule also extends the retention period for recordkeeping copies of these files, which were previously approved for disposal.

5. Department of Justice, Federal Bureau of Investigation (N1-65-05-7, 13 items, 13 temporary items). Inputs, outputs, master files, documentation, and electronic mail and word processing copies associated with a Web site used to receive and track tips from the public and other government agencies relating to suspected criminal activity.

6. Department of Labor, Employee Benefits Security Administration (N1-317-02-1, 8 items, 6 temporary items). Inputs, outputs, master files, and electronic mail and word processing copies associated with an electronic information system used to manage annual financial reports relating to employee benefit plans. Proposed for permanent retention are the recordkeeping copies of the structured database master files and documentation.

7. Department of Labor, Employee Benefits Security Administration (N1-317-02-2, 7 items, 7 temporary items). Records of the Office of Regulations and Interpretations relating to interpreting and applying Title 1 of the Employee Retirement Income Security Act and the Federal Employees Retirement System Act. Included are such records as advisory opinion letters and information letters, technical assistance case files, and regulation files. Also included are electronic copies of records created using electronic mail and word processing.

8. Department of Transportation, Federal Aviation Administration (N1-237-05-3, 19 items, 17 temporary items). Records relating to the certification of aircraft types, approval of the design and production of aircraft parts, evaluation and investigation of aircraft manufacturing facilities, and safety recommendations. Included are enforcement investigative reports, safety recommendation case files, canceled aircraft type certificate case files, engineering parts manufacturer approval files, external certificate management evaluation files, production approval files, and engineering technical standard order files. Also included are electronic copies of records created using electronic mail and word processing. Proposed for permanent retention are recordkeeping copies of domestic aircraft type certificate case files and domestic aircraft supplemental type certificate case files.

9. Department of Transportation, Federal Aviation Administration (N1-237-06-1, 13 items, 13 temporary items). Records relating to the certification of airmen. Included are student pilot certification files, foreign license verification files, enforcement records, and inputs, outputs, master files, and documentation associated with an electronic information system used to collect and disseminate airman certification files. Also included are electronic copies of records created using electronic mail and word processing.

10. General Services Administration, Office of the Inspector General (N1-269-05-1, 10 items, 10 temporary items). Records of the Office of the Inspector General, including subject files, disclosure records, fraud matter case files, subpoena files, and legal advice and assistance records. Also included are electronic copies of records created using electronic mail and word processing.

11. Small Business Administration (N1-309-04-9, 7 items, 7 temporary items). Records relating to liquidation loans, loans to certified development and state development companies, and 7(a) business loans. Included are applications, loan documentation, and correspondence.

12. Small Business Administration, Investment Division (N1-309-05-7, 7 items, 3 temporary items). Inputs, ad hoc reports, and electronic mail and word processing copies associated with an electronic information system used by the Office of Capital Access to track portfolio investments made by small business investment companies. Proposed for permanent retention are master files, program statistical packages, annual reports, and system documentation.

13. Small Business Administration (N1-309-05-23, 264 items, 261 temporary items). Inputs, master files, outputs, documentation, and electronic mail and word processing copies associated with the Loan Accounting System, which consists of a series of subsystems used to control the loan accounting, portfolio management, and cash collection activities of the agency. Proposed for permanent retention are the loan accounting root database master files and system documentation.

Dated: January 24, 2006.
Michael J. Kurtz,
Assistant Archivist for Records Services—Washington, DC.

[FR Doc. E6-1097 Filed 1-27-06; 8:45 am]

BILLING CODE 7515-01-P